DEPARTMENT OF TRANSPORTATION

Federal Railroad Administration

Petition for Waiver of Compliance

In accordance with Title 49 Code of Federal Regulations (CFR) part 211, notice is hereby given that the Federal Railroad Administration (FRA) has received a request for a waiver of compliance from certain requirements of its safety standards. The individual petition is described below, including the party seeking relief, the regulatory provisions involved, the nature of the relief being requested, and the petitioner's arguments in favor of relief.

Roger W. Stabler and Gloria J. Stabler

[Waiver Petition Docket Number FRA-2010-0153]

The owners, Mr. Roger W. Stabler and Ms. Gloria J. Stabler (the Stablers), a private partnership in Woodland in the State of California, have petitioned FRA for a permanent waiver of compliance, for one private passenger car (Two Rivers), from the requirements of 49 CFR Part 223, Safety Glazing Standards, which requires certified glazing in all windows.

The passenger car, Two Rivers, was built by Pullman Standard in 1948, and does not have glazing material that meets the provisions of 49 CFR 223.15, Requirements for existing passenger cars, for certified glazing in the 23 side-facing windows (including windows in the end vestibule doors). There are no end-facing windows in this car.

The Two Rivers car is interchanged with the general system of railroads, moved short distances over freight railroads for storage when not in use, and occasionally operated behind Amtrak passenger trains. Also, the Two Rivers car is occasionally used in special trains made up of similarly owned passenger cars being operated for the pleasure of the owner and affiliated members of the American Association of Private Rail Car Owners and/or Railroad Passenger Car Alliance, invited guests, and paying passengers (providing an opportunity for passenger travel of a bygone era). The main operations occur over scenic, long-distance routes through rural countryside (outside high-risk, dense urban areas), which are low-risk areas for window damage or breakage. The car is operated at a maximum track speed as authorized by the railroad controlling movement, and is certified by Amtrak to operate at 110 mph. Typically, these operations amount to about 4,000 miles each year.

The Stablers state that the passenger car is equipped with dual-pane automotive style laminated safety glass, which, in addition to providing a thermal insulation benefit, protects occupants from injury caused by the likelihood of a projectile striking the outer pane but not penetrating the inner pane. They also state that there have not been any reports of injury to occupants of this car for the last 20 years. Since the 1996 ownership by the Stablers, there have not been any accidents/incidents attributed to glazing in this car. The owners further state that they maintain the car to Amtrak standards or to a standard required by the operating railroad.

Additionally, the Stablers have a current and feasible emergency egress plan for the car that consists of the following: (1) The two end doors are always unlocked when the car is in motion; (2) each bedroom is equipped with a hammer and flashlight (the hammers, specifically designed to break glass, are located next to each window; (3) the general lounge area is equipped with a 6-pound sledge hammer, a 3-foot pry bar, a Pullman bi-metal saw, and an axe stored in a labelled emergency tool holder, which is located in the entryway hallway; (4) the car is equipped with four fire extinguishers (two mounted and one located at each end of the car), and two first-aid kits; (5) the car is equipped, at all times, with a two-way radio for communication with the train crew, as well as a cell phone; and (6) all arriving passengers are given a safety briefing on the location and basic operation of breakout tools, fire extinguishers, and first-aid kits.

The Stablers request that the certified glazing requirements be waived for the Two Rivers passenger car at this time due to the accident and vandalism free history, the long-distance routes through rural countryside, and the prohibitive cost to replace the side windows. The Stablers agree to replace any glazing presently installed on the car with FRA-compliant safety glazing in the event that the same is either cracked or broken, or reaches the end of its service life (i.e., scratched, polycarbonate, etc.).

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0153) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Page 19477-78) or at http://www.dot.gov/privacy.html.

Issued in Washington, DC on December 3, 2010.
Michael J. Logue,
Deputy Associate Administrator for Safety Compliance and Program Implementation.

[FR Doc. 2010-30911 Filed 12-8-10; 8:45 am]

BILLING CODE 4910-06-P